NUCLEAR REGULATORY COMMISSION

Advisory Committee on Reactor Safeguards (ACRS) Subcommittee Meeting on Materials, Metallurgy & Reactor Fuels; Revised

The ACRS Subcommittee on Materials, Metallurgy & Reactor Fuels scheduled for Wednesday, March 4, 2009, has been moved to the Commission Hearing Room, 01-F16/01-G16, 11555 Rockville Pike, Rockville, Maryland, 20852. All other items pertaining to this meeting remain the same as published previously in the Federal Register on Tuesday, February 10, 2009.

For future information contact: Michael L. Benson, Designated Federal Officer (Telephone: 301-415-6396) between 7 a.m. and 5 p.m. (ET) or by e-mail Michael.Benson@nrc.gov.

Dated, February 17, 2009.
Cayetano Santos,
Branch Chief Reactor Safety Branch A, Advisory Committee on Reactor Safeguards.

[FR Doc. E9-3753 Filed 2-20-09; 8:45 am]

BILLING CODE 7590-01-P